CONSUMER PRODUCT SAFETY COMMISSION

[Docket No. CPSC-2010-0053]

Agency Information Collection Activities; Submission for OMB Review; Comment Request; Safety Standard for Multi-Purpose Lighters

AGENCY: Consumer Product Safety Commission.

ACTION: Notice.

SUMMARY: As required by the Paperwork Reduction Act of 1995, the Consumer Product Safety Commission (CPSC or Commission) announces that the Commission has submitted to the Office of Management and Budget (OMB) a request for extension of approval of a collection of information associated with the Safety Standard for Multi-Purpose Lighters. OMB previously approved the collection of information under control number 3041-0130. OMB's most recent extension of approval will expire on October 31, 2020. On July 23, 2020, the CPSC published a notice in the Federal Register to announce the agency's intention to seek extension of approval of the collection of information. The Commission received no comments. Therefore, by publication of this notice, the Commission announces that CPSC has submitted to the OMB a request for extension of approval of this collection of information, without change.

DATES: Submit written or electronic comments on the collection of information by November 2, 2020.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2010-0053.

FOR FURTHER INFORMATION CONTACT: Cynthia Gillham, Consumer Product Safety Commission, 4330 East West Highway, Bethesda, MD 20814; (301) 504-7791, or by email to: cgillham@cpsc.gov.

SUPPLEMENTARY INFORMATION: On July 23, 2020, CPSC published a notice in the Federal Register to announce the agency's intention to seek extension of approval of the collection of information. (85 FR 44526). The Commission received no comments. Accordingly, CPSC seeks to renew the following currently approved collection of information:

Title: Safety Standard for Multi-Purpose Lighters.

OMB Number: 3041-0130.

Type of Review: Renewal of collection.

Frequency of Response: On occasion.

Affected Public: Manufacturers and importers of multi-purpose lighters.

Estimated Number of Respondents: 62 firms will test, on average, 2 models per firm.

Estimated Time per Response: 50 hours per model, including testing, recordkeeping, data maintenance, and submitting records requested by CPSC.

Total Estimated Annual Burden: 6,200 hours (62 firms x 2 models x 50 hours).

General Description of Collection: The Commission issued a safety standard for multi-purpose lighters (16 CFR part 1212) in 1999. The standard includes requirements that manufacturers (including importers) of multi-purpose lighters issue certificates of compliance based on a reasonable testing program. The standard also requires that manufacturers and importers maintain certain records. Respondents must comply with these testing, certification, and recordkeeping requirements for multi-purpose lighters.

Alberta E. Mills,
Secretary, Consumer Product Safety Commission.

[FR Doc. 2020-21844 Filed 10-1-20; 8:45 am]

BILLING CODE 6355-01-P